DEPARTMENT OF STATE

[Public Notice 4642]

Notice of Meeting; United States International Telecommunication Advisory Committee Meeting-Radiocommunication Sector (ITAC-R)

The Department of State announces meetings of the ITAC-R. The purpose of the Committee is to advise the Department on matters related to telecommunication and information policy matters in preparation for international meetings pertaining to telecommunication and information issues.

The ITAC-R will meet to discuss the matters related to the meeting of the ITU Council's Ad Hoc Group on Cost Recovery for Satellite Network Filings that will take place 4-6 May 2004 in Geneva, Switzerland. ITAC-R meetings will be convened on 13 April, and 27 April from 1:30 to 4 pm in Room 6 B 516 at the Federal Communications Commission (FCC). The FCC is located at 445 12th Street, SW., Washington, DC.

Members of the public will be admitted to the extent that seating is available and may join in the discussions subject to the instructions of the Chair. Entrance to the FCC is controlled. Persons planning to attend the meeting should arrive early enough to complete the entry procedure. One of the following current photo identifications must be presented to gain entrance to the FCC: U.S. driver's license with your photo on it, U.S. passport, or U.S. Government identification. For further information on these meetings, please contact Douglas Spalt, International Communications and Information Policy, Department of State at (202) 647-0200.

Dated: March 18, 2004.
Douglas R. Spalt,
International Telecommunications and Information Policy, Department of State.

[FR Doc. 04-7082 Filed 3-29-04; 8:45 am]

BILLING CODE 4710-45-P